DEPARTMENT OF THE INTERIOR

Bureau of Land Management

[WY-930-1060-PC]

Notice of Intent to Remove Wild Horses on the Public Lands in Wyoming

AGENCY: Bureau of Land Management, Interior.

ACTION: Notice.

SUMMARY: The Wild, Free Roaming Horse and Burro Act (Pub. L. 92-195), as amended, provides, among other things, that excess wild horses shall be removed from the public lands.

The Bureau of Land Management (BLM) plans to continue removal operations according to the following schedule: Beginning February 1, 2001, remove 500 horses from the following areas: Antelope Hills, Lost Creek/I80 North, Stewart Creek, Divide Basin, and Salt Wells. Beginning August 6, 2001, remove 400 horses from the Salt Wells Herd Management Area (HMA). Beginning August 6, 2001, remove 350 horses from the Lander HMA. Beginning August 27, 2001, remove 150 horses from the Little Colorado HMA. Beginning September 10, 2001, remove 300 horses from the Divide Basin and Lost Creek HMAs. Dates are approximate depending on weather and soil conditions, and other factors unforseen at this time. BLM plans to remove a total of 1700 horses from public lands according to the above schedule.

Pursuant to the requirements noted above, the BLM will conduct a public hearing on the use of helicopters in gathering operations during the calendar year of 2001 on January 30, 2001, at 3 p.m. MST in the large conference room of the Rawlins Field Office of the BLM located at 1300 North Third Street in Rawlins, Wyoming.

FOR FURTHER INFORMATION CONTACT: Don Glenn, Wild Horse Specialist, Bureau of Land Management, Wyoming State Office, 5353 Yellowstone, Cheyenne, WY 82009. Phone (307) 775-6097.

Dated: December 27, 2000.
Alan Rabinoff,
Acting State Director.

[FR Doc. 01-182 Filed 1-3-01; 8:45 am]

BILLING CODE 4310-22-P